DEPARTMENT OF ENERGY

Federal Energy Regulatory Commission

[Project No. 5261-023]

Green Mountain Power Corporation; Notice of Application Tendered for Filing With The Commission and Soliciting Additional Study Requests and Establishing Procedural Schedule for Relicensing and A Deadline for Submission of Final Amendments

Take notice that the following hydroelectric application has been filed with the Commission and is available for public inspection.

a. Type of Application: Subsequent Minor License.

b. Project No.: 5261-023.

c. Date filed: August 27, 2021.

d. Applicant: Green Mountain Power Corporation.

e. Name of Project: Newbury Hydroelectric Project (project).

f. Location: On the Wells River, in the town of Newbury, Orange County, Vermont. The project does not occupy any federal land.

g. Filed Pursuant to: Federal Power Act 16 U.S.C. 791(a)-825(r).

h. Applicant Contact: John Greenan, Green Mountain Power Corporation, 2152 Post Road, Rutland, VT 05701; Phone at (802) 770-2195, or email at John.Greenan@greenmountainpower.com.

i. FERC Contact: Adam Peer at (202) 502-8449, or adam.peer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 26, 2021.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Newbury Hydroelectric Project (P-5261-023).

m. The application is not ready for environmental analysis at this time.

n. Project Description: The existing Newbury Project consists of: (1) An 11.4-acre impoundment at a normal water surface elevation of 463.9 feet mean sea level; (2) a 26-foot-high by 90-foot-long concrete gravity dam that includes a 73.3-foot-long spillway topped with 5-foot-high pneumatic crest gates; (3) a seasonally installed, 8-foot-long by 4-foot-wide steel sluice box on the south side of the spillway to provide downstream fish passage; (4) an 11.2-foot-wide, 9-foot-long intake structure with trash racks, connected to a 5-foot-diameter, 435-foot-long underground steel penstock; (5) a 1,892-square-foot powerhouse containing a single 315-kilowatt turbine-generator unit; (6) a second 50-kilowatt turbine-generator unit located outside of the powerhouse approximately 75-feet downstream of the dam along the bypassed reach; (7) a 125-foot-long tailrace; (8) three 150-foot-long generator leads that create a 480 Volt, 3 phase 150-foot-long underground transmission line connected to three pole mounted 167 kilovolt-ampere step-up transformers; and (9) appurtenant facilities. The project creates a 590-foot-long bypassed reach of the Wells River.

o. The current license requires Green Mountain Power Corporation to: (1) Operate the project in run-of-river mode; (2) release a continuous bypassed reach minimum flow of 50 cubic feet per second (cfs) from April 15 to June 10 and 25 cfs during the remainder of the year; and (3) release a year-round, continuous aesthetic flow of 5 cfs over the dam. The average annual generation of the project is approximately 882 megawatt-hours.

p. Green Mountain Power Corporation proposes to: (1) Continue operating the project in run-of-river mode; (2) release new bypassed reach minimum flows of 35 cfs from May 15 to October 15 and 30 cfs from October 16 to May 14; and (3) release a new aesthetic flow of 10 cfs over the dam from May 15 to October 15 during daytime hours and no aesthetic flow the remainder of the year.

q. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5261). At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

r. Procedural schedule: The application will be processed according to the following preliminary schedule. Revisions to the schedule will be made as appropriate.

Issue Deficiency Letter (if necessary) | November 2021.
Request Additional Information | November 2021.
Issue Acceptance Letter | March 2022.
Issue Scoping Document 1 for comments | March 2022.
Issue Scoping Document 2 | May 2022.
Issue Notice of Ready for Environmental Analysis | May 2022.

s. Final amendments to the application must be filed with the Commission no later than 30 days from the issuance date of the notice of ready for environmental analysis.

Dated: September 7, 2021.
Kimberly D. Bose,
Secretary.

[FR Doc. 2021-19675 Filed 9-10-21; 8:45 am]

BILLING CODE 6717-01-P